DEPARTMENT OF HEALTH AND HUMAN SERVICES

Administration for Children and Families

Submission for OMB Review; State Court Improvement Program (OMB #0970-0307)

AGENCY: Children's Bureau, Administration for Children and Families, HHS.

ACTION: Request for public comment.

SUMMARY: The Administration for Children and Families (ACF) is requesting a three-year extension of the Court Improvement Program (CIP) Program Instruction, Strategic Plan Template, and Annual CIP Self-Assessment (OMB #0970-0307, expiration 9/30/2019). There are minimal updates to the form to reflect new legislation. The collections are necessary to continue operating the program in compliance with congressional reauthorization.

DATES: Comments due within 30 days of publication. OMB is required to make a decision concerning the collection of information between 30 and 60 days after publication of this document in the Federal Register. Therefore, a comment is best assured of having its full effect if OMB receives it within 30 days of publication.

ADDRESSES: Written comments and recommendations for the proposed information collection should be sent directly to the following:

Office of Management and Budget Paperwork Reduction Project.

Email: OIRA_SUBMISSION@OMB.EOP.GOV.

Attn: Desk Officer for the Administration for Children and Families.

Copies of the proposed collection may be obtained by emailing infocollection@acf.hhs.gov. Alternatively, copies can also be obtained by writing to the Administration for Children and Families, Office of Planning, Research, and Evaluation, 330 C Street SW, Washington, DC 20201, Attn: OPRE Reports Clearance Officer. All requests, emailed or written, should be identified by the title of the information collection.

SUPPLEMENTARY INFORMATION: Description: The proposed collection is a continuation of the current collection and comprised of two components: An application including a strategic plan that is due once every five years, and an annual self-assessment. The next collection (annual self-assessment) will be due June 30, 2020. The next five-year application will be due in 2021.

Respondents: We anticipate the highest state court of every state, Puerto Rico and the US Virgin Islands to respond. All 52 jurisdictions currently participate in the program.

Annual Burden Estimates
Collection | Year | Number of respondents | Number of responses per respondent | Average burden hours per response | Total burden hours
Complete Application | 2021 | 52 | 1 | 92 | 4784
Complete Program Assessment Report | 2020 | 52 | 1 | 77 | 4004
| 2021 | 52 | 1 | 77 | 4004
| 2022 | 52 | 1 | 77 | 4004
Total |  |  |  |  | 16,796

Estimated Total Annual Burden Hours: 4004 hours in 2020 and 2022; 8788 hours in 2021 (when both the self-assessment and the 5-year application are due within the year)

Authority: Sec. 50761, P.L. 115-123.

Mary B. Jones,
ACF/OPRE Certifying Officer.

[FR Doc. 2019-20890 Filed 9-25-19; 8:45 am]

BILLING CODE 4184-01-P